NUCLEAR REGULATORY COMMISSION

Notice of Availability of Model Safety Evaluation, Model No Significant Hazards Determination, and Model Application for Licensees That Wish To Adopt TSTF-511, Revision 0, “Eliminate Working Hour Restrictions From TS 5.2.2 To Support Compliance With 10 CFR Part 26”

AGENCY: Nuclear Regulatory Commission.

ACTION: Notice of availability.

SUMMARY: Notice is hereby given that the staff of the U.S. Nuclear Regulatory Commission (NRC) has approved TSTF-511, Revision 0, “Eliminate Working Hour Restrictions from TS 5.2.2 to Support Compliance with 10 CFR Part 26,” and has prepared a model license amendment request (LAR), model safety evaluation (SE), and model proposed no significant hazards consideration (NSHC) determination related to deletion of paragraph d of Technical Specification (TS) 5.2.2 in Standard Technical Specifications (STS). The purpose of these models is to permit the NRC to efficiently process license amendment applications that propose to adopt TSTF-511, Revision 0. TSTF-511, Revision 0 revises the Administrative Controls section of STS to support compliance with a recent revision to 10 CFR Part 26, “Fitness For Duty Programs.” Licensees of nuclear power reactors to which the model applies may request amendments using the model application.

The NRC issued a Federal Register notice (73 FR 16966, March 31, 2008) of the issuance of a final rule that amended 10 CFR Part 26. The revised regulations in 10 CFR Part 26, Subpart I supersede working hour restrictions contained in TS. The NRC staff hereby announces that the model SE and NSHC determination may be referenced in plant-specific applications to adopt the changes. The NRC staff can most efficiently consider applications based upon the model application if the application is submitted within a year of this Federal Register notice.

FOR FURTHER INFORMATION CONTACT: Matthew Hamm, Mail Stop: O12H2, Division of Inspection and Regional Support, Office of Nuclear Reactor Regulation, U.S. Nuclear Regulatory Commission, Washington, DC 20555-0001, telephone 301-415-1472.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency of NRC licensing processes by processing proposed changes to the standard technical specifications (STS) in a manner that supports subsequent license amendment applications. The CLIIP normally includes an opportunity for the public to comment on a proposed change to the STS after a preliminary assessment by the NRC staff and a finding that the change will likely be offered for adoption by licensees. The CLIIP directs the NRC staff to evaluate any comments received for a proposed change to STS and to either reconsider the change or announce the availability of the change for adoption by licensees. Public comment periods for the proposed changes to 10 CFR Part 26 were provided prior to the amendment of Part 26. No public comment period is being provided for the model LAR, model SE, and model proposed NSHC determination provided in this notice since this notice is being used to implement the changes to 10 CFR Part 26, for which previous comment periods were provided.

This notice contains changes proposed for incorporation into the STS by owners group participants in the Technical Specification Task Force (TSTF) and is designated TSTF-511. TSTF-511, Revision 0 can be viewed on the NRC's web page utilizing the Agencywide Documents Access and Management System (ADAMS). The ADAMS accession number for TSTF-511, Revision 0, is ML082610292.

Applicability

NRC staff has attempted to make the model LAR, model SE, and model proposed NSHC determination applicable to all licensees of power reactors. Licensees opting to apply for this TS change are responsible for reviewing the staff's evaluation, referencing the applicable technical justifications, providing any necessary plant-specific information, and confirming the applicability of the change to their plant. To efficiently process the incoming license amendment applications, the NRC staff requests that each licensee applying for the changes addressed by TSTF-511, Revision 0, using the CLIIP, submit a license amendment request that adheres to the attached model application. Variations from the model application in this notice may require additional review by NRC staff, and may increase the time and resources needed for review. Significant variations from the model application, or inclusion of additional changes to the license, may result in staff rejection of the submittal. Instead, licensees desiring significant variations and/or additional changes should submit a LAR that does not request to adopt TSTF-511 under the CLIIP. Each amendment application made in response to the notice of availability will be processed and noticed in accordance with applicable rules and NRC procedures.

Public Notices

Licensees wishing to adopt the change must submit an application in accordance with applicable rules and other regulatory requirements. For each application the NRC staff will publish a notice of consideration of issuance of amendment to facility operating licenses, a proposed no significant hazards consideration determination, and a notice of opportunity for a hearing. The staff will also publish a notice of issuance of an amendment to an operating license to announce the deletion of those portions of TS superseded by 10 CFR Part 26, Subpart I for each plant that receives the requested change.

Dated at Rockville, Maryland this 11th of December 2008.
For the Nuclear Regulatory Commission.
Robert B. Elliott,
Branch Chief, Technical Specifications Branch, Division of Inspections and Regional Support, Office of Nuclear Reactor Regulation.

Proposed Model Application for License Amendments Adopting TSTF-511, Revision 0, “Eliminate Working Hour Restrictions From TS 5.2.2 To Support Compliance With 10 CFR Part 26”

U.S. Nuclear Regulatory Commission,

Document Control Desk,

Washington, DC 20555.

SUBJECT: [Plant Name]

DOCKET NO. 50-[XXX]

LICENSE AMENDMENT REQUEST FOR ADOPTION OF TSTF-511, REV. 0, “ELIMINATE WORKING HOUR RESTRICTIONS FROM TS 5.2.2 TO SUPPORT COMPLIANCE WITH 10 CFR PART 26.”

In accordance with the provisions of Section 50.90 of Title 10 of the Code of Federal Regulations (10 CFR), [LICENSEE] is submitting a request for an amendment to the Technical Specifications (TS) for [PLANT NAME, UNIT NO.].

The proposed amendment would delete those portions of TS superseded by 10 CFR Part 26, Subpart I. This change is consistent with NRC approved Revision 0 to Technical Specification Task Force (TSTF) Improved Standard Technical Specification Change Traveler, TSTF-511, “Eliminate Working Hour Restrictions from TS 5.2.2 to Support Compliance with 10 CFR Part 26.” [Discuss any differences with TSTF-511, Revision 0.] The availability of this TS improvement was announced in the Federal Register on [Date] ([ ] FR [ ]) as part of the consolidated line item improvement process (CLIIP).

Attachment 1 provides an evaluation of the proposed change. Attachment 2 provides the existing TS pages marked up to show the proposed change. Attachment 3 provides the proposed TS changes in final typed format. Attachment 4 provides the regulatory commitment[s].

[LICENSEE] requests approval of the proposed license amendment by [DATE], to support implementation of TS changes concurrent with implementation of the new 10 CFR 26, Subpart I requirements [BY October 1, 2009 OR WITHIN X DAYS].

This letter contains [one] regulatory commitment[s] as identified in Attachment 4.

In accordance with 10 CFR 50.91, a copy of this application, with attachments, is being provided to the designated [STATE] Official.

If you should have any questions regarding this submittal, please contact [ ].

I declare [or certify, verify, state] under penalty of perjury that the foregoing is true and correct.

[NAME, TITLE]

Attachments:

1. Evaluation of Proposed Change

2. Proposed Technical Specification Change (Mark-Up)

3. Proposed Technical Specification Change (Re-Typed)

4. List of Regulatory Commitments

cc: [NRR Project Manager]

[Regional Office]

[Resident Inspector]

[State Contact]

Attachment 1

Evaluation of Proposed Change

License Amendment Request for Adoption of TSTF-511, Revision 0, “Eliminate Working Hour Restrictions from TS 5.2.2 to Support Compliance with 10 CFR Part 26.”

1.0 Description

2.0 Proposed Change

3.0 Background

4.0 Technical Analysis

5.0 Regulatory Safety Analysis

5.1 No Significant Hazards Determination

5.2 Applicable Regulatory Requirements/Criteria

6.0 Environmental Consideration

7.0 References

1.0 DESCRIPTION

The proposed amendment would delete those portions of TS superseded by 10 CFR Part 26, Subpart I. This change is consistent with NRC approved Revision 0 to Technical Specification Task Force (TSTF) Improved Standard Technical Specification Change Traveler, TSTF-511, “Eliminate Working Hour Restrictions from TS 5.2.2 to Support Compliance with 10 CFR Part 26.” Minor differences between the proposed plant specific TS changes, and the changes proposed by TSTF-511 are listed in section 2.0. The availability of this TS improvement was announced in the Federal Register on [Date] ([ ] FR [ ]) as part of the consolidated line item improvement process (CLIIP).

2.0 PROPOSED CHANGE

Consistent with the NRC approved Revision 0 of TSTF-511, the proposed TS changes delete those portions of TS superseded by 10 CFR Part 26, Subpart I.

This application is being made in accordance with the CLIIP. [LICENSEE] is [not] proposing variations or deviations from the TS changes described in TSTF-511, Revision 0, or the NRC staff's model safety evaluation (SE) published on [DATE] ([ ] FR [ ]) as part of the CLIIP Notice of Availability. [Discuss any differences with TSTF-511, Revision 0 and the effect of any changes on the NRC staff's model SE.]

3.0 BACKGROUND

The NRC issued a Federal Register notice (73 FR 16966, March 31, 2008) of the issuance of a final rule that amended 10 CFR Part 26. The revised regulations in 10 CFR Part 26, Subpart I supersede working hour restrictions contained in [paragraph d of TS 5.2.2]. The background for this application is adequately addressed by the NRC Notice of Availability published on [DATE] ([ ] FR [ ]).

4.0 TECHNICAL ANALYSIS

[LICENSEE] has reviewed the SE published on [DATE] ([ ] FR [ ]) as part of the CLIIP Notice of Availability. [LICENSEE] has concluded that the technical justifications presented in the SE prepared by the NRC staff are applicable to [PLANT, UNIT NO.].

10 CFR Part 26, Subpart I, supersedes existing worker fatigue guidance. 10 CFR Part 26, Subpart I, distinguishes between work hour controls and fatigue management and strengthens the requirements for both. Under the new rule, work hour restrictions include not only work hour limitations for rolling 24-hour, 48-hour, and 7-day periods, but also include a required minimum break between work periods and varying required minimum days off. Additionally, Subpart I confines the use of waivers (deviations from restrictions) to situations where overtime is necessary to mitigate or prevent a condition adverse to safety or necessary to maintain the security of the facility. Subpart I also strengthens reporting requirements. Finally, the new rule's work hour control scope includes certain operating and maintenance personnel, as well as individuals directing those operating and maintenance personnel, health physics and chemistry personnel who are a part of the on-site emergency response organization minimum shift complement, the fire brigade member who is responsible for understanding the effects of fire and fire suppressants on safe shutdown capability, and certain security personnel.

The proposed change removes working hour limits imposed in the Technical Specifications in order to support compliance with 10 CFR Part 26, Subpart I. Work hour controls and fatigue management requirements have been incorporated into the NRC's regulations; therefore, it is unnecessary to have work hour control requirements in the Technical Specifications.

Removal of the Technical Specification requirements will be performed concurrently with the implementation of the 10 CFR Part 26, Subpart I, requirements, even if the Technical Specification change is implemented prior to the October 1, 2009 deadline. Along with this LAR, [LICENSEE] has submitted a commitment to comply with 10 CFR Part 26 concurrently with the implementation of the Technical Specification change.

5.0 REGULATORY SAFETY ANALYSIS

5.1 NO SIGNIFICANT HAZARDS DETERMINATION

[LICENSEE] has reviewed the no significant hazards determination published on [DATE] ([ ] FR [ ]) as part of the CLIIP Notice of Availability. [LICENSEE] has concluded that the determination presented in the notice is applicable to [PLANT, UNIT NO.]. [LICENSEE] has evaluated the proposed changes to the TS using the criteria in 10 CFR 50.92 and has determined that the proposed changes do not involve a significant hazards consideration. An analysis of the issue of no significant hazards consideration is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR Part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR Part 26 are adequate to ensure that worker fatigue is managed.

Therefore, the proposed change does not involve a significant reduction in a margin of safety.

Based on the above, [LICENSEE] concludes that the proposed change presents no significant hazards consideration under the standards set forth in 10 CFR 50.92(c), and, accordingly, a finding of “no significant hazards consideration” is justified.

5.2 APPLICABLE REGULATORY REQUIREMENTS/CRITERIA

A description of the proposed TS change and its relationship to applicable regulatory requirements was provided in the NRC Notice of Availability published on [DATE] ([ ] FR [ ]). [LICENSEE] has reviewed the NRC staff's model SE published on [DATE] ([ ] FR [ ]) as part of the CLIIP Notice of Availability and concluded that the regulatory evaluation section is applicable to [PLANT, UNIT NO.].

The proposed change eliminates the plant-specific Technical Specification administrative controls on working hours. The Technical Specification guidance has been superseded by 10 CFR Part 26.

10 CFR Part 26, Subpart I, “Managing Fatigue,” contains requirements for managing worker fatigue at operating nuclear power plants.

10 CFR 50.36 provides, among other things, the regulatory requirements for the content in the Administrative Controls section of the Technical Specifications. The inclusion of requirements to control working hours and manage fatigue is not required to be in the Administrative Controls by 10 CFR Part 50.36. Because the requirement to control working hours and manage fatigue is provided in 10 CFR Part 26, Subpart I, it is unnecessary for the Technical Specifications to contain similar controls.

6.0 ENVIRONMENTAL CONSIDERATION

[LICENSEE] has reviewed the environmental evaluation included in the safety evaluation (SE) published on [DATE] ([ ] FR [ ]) as part of the CLIIP Notice of Availability. [LICENSEE] has concluded that the staff's findings presented in that evaluation are applicable to [PLANT, NO.]. The proposed amendment changes recordkeeping, reporting, or administrative procedures. Accordingly, the amendment meets the eligibility criteria for categorical exclusion set forth in 10 CFR 51.22(c)(10). Pursuant to 10 CFR 51.22(b) no environmental impact statement or environmental assessment need be prepared in connection with the issuance of the amendment.

7.0 REFERENCES

1. Federal Register Notice, Final Rule 10 CFR Part 26 published on March 31, 2008.

2. TSTF-511, Revision 0, “Eliminate Working Hour Restrictions from TS 5.2.2 to Support Compliance with 10 CFR Part 26.”

3. Federal Register Notice, Notice of Availability published on [DATE] ([ ] FR [ ]).

Attachment 2

Proposed Technical Specification Change (Mark-Up)

Attachment 3

Proposed Technical Specification Change (Re-Typed)

Attachment 4

List of Regulatory Commitments

Commitment

Removal of the plant-specific TS requirements will be performed concurrently with the implementation of the 10 CFR Part 26, Subpart I requirements. This commitment will be completed no later than October 1, 2009.

Model Safety Evaluation

U.S. Nuclear Regulatory Commission

Office of Nuclear Reactor Regulation

Consolidated Line Item Improvement

Technical Specification Task Force Change TSTF-511, Revision 0, “Eliminate Working Hour Restrictions from TS 5.2.2 to Support Compliance with 10 CFR Part 26.”

1.0 INTRODUCTION

By application dated [Date], [Name of Licensee] (the licensee) requested changes to the Technical Specifications (TS) for the [Name of Facility].

The proposed changes would:

1. Delete paragraph d of TS 5.2.2, “Unit Staff.”

The licensee stated that the application is consistent with NRC approved Revision 0 to Technical Specification Task Force (TSTF) Improved Standard Technical Specification Change Traveler, TSTF-511, “ Eliminate Working Hour Restrictions from TS 5.2.2 to Support Compliance with 10 CFR Part 26.” [Discuss any differences with TSTF-511, Revision 0.] The availability of this TS improvement was announced in the Federal Register on [Date] ([ ] FR [ ]) as part of the consolidated line item improvement process (CLIIP).

2.0 REGULATORY EVALUATION

The history of NRC regulations pertaining to prevention of worker impairment is summarized in the Federal Register notice containing the final rule that amended 10 CFR Part 26 (73 FR 16966, March 31, 2008). 10 CFR Part 26, Subpart I provides the regulatory requirements for managing worker fatigue at nuclear power plants.

The NRC's regulatory requirements related to the content of the TS are contained in 10 CFR Part 50.36. 10 CFR 50.36 requires that the TS include items in the following categories: (1) Safety limits, limiting safety systems settings, and limiting control settings; (2) limiting conditions for operation (LCOs); (3) Surveillance Requirements (SR); (4) design features; and (5) administrative controls. The administrative controls are the provisions relating to organization and management, procedures, recordkeeping, review and audit, and reporting necessary to assure operation of the facility in a safe manner.

The NRC's guidance for the format and content of licensee Technical Specifications can be found in NUREG-1430, Revision 3.0, “Standard Technical Specifications Babcock and Wilcox Plants,” NUREG-1431, Revision 3.0, “Standard Technical Specifications Westinghouse Plants,” NUREG-1432, Revision 3.0, “Standard Technical Specifications Combustion Engineering Plants,” NUREG-1433, Revision 3.0, “Standard Technical Specifications General Electric Plants, BWR/4,” and NUREG-1434, Revision 3.0, “Standard Technical Specifications General Electric Plants, BWR/6,” referred to as Standard Technical Specifications (STS). Section 5 of STS contains administrative controls. Paragraph d of Section 5.2.2 of STS contains requirements for administrative procedures to limit the working hours of personnel who perform safety related functions. This paragraph represents NRC's guidance on how licensee TS requirements should address work hour controls. Licensees adhere to the guidance to varying degrees due to minor administrative differences and differences in each licensee's current licensing basis. The inconsistent level of adherence to NRC guidance has lead to inconsistent TS interpretation and implementation. This has also made it difficult for NRC to enforce the requirements.

The new requirements of 10 CFR Part 26, Subpart I supersede the guidance for requirements found in Paragraph d of Section 5.2.2 of all STS. Subpart I distinguishes between work hour controls and fatigue management and strengthens the requirements for both. Subpart I requires nuclear power plant licensees to ensure against worker fatigue adversely affecting public health and safety and the common defense and security by establishing clear and enforceable requirements for the management of worker fatigue. Licensees are required to implement Subpart I by October 1, 2009 as announced in the Final rule that revised 10 CFR Part 26 (73 FR 16966, March 31, 2008). TSTF-511 proposed a change to STS that would delete paragraph d of STS 5.2.2. This change was approved in Federal Register notice on [Date] ([ ] FR [ ]).

2.1 Adoption of TSTF-511, Revision 0, by [facility name]

Proper adoption of TSTF-511 and implementation of 10 CFR Part 26, Subpart I by [licensee] will provide reasonable assurance that [licensee] will maintain limits on the working hours of personnel who perform safety related functions. [Licensee] has committed to remove the plant-specific TS requirements concurrently with the implementation of the 10 CFR Part 26, Subpart I requirements.

3.0 TECHNICAL EVALUATION

Controls on work hours for personnel at nuclear power plants are necessary to prevent worker fatigue from adversely affecting public health and safety and the common defense and security. Work hour controls for [facility name] are currently located in [paragraph d of TS 5.2.2]. When implemented, the regulatory requirements of 10 CFR 26, Subpart I replace the plant-specific TS requirements found in [paragraph d of [facility name]] TS.

The licensee proposed deleting [paragraph d of TS 5.2.2]. The licensee committed to implement the new requirements of 10 CFR Part 26, Subpart I concurrently with the deletion of the TS requirements on work hour controls. The NRC staff finds that reasonable controls for the implementation and for subsequent evaluation of proposed changes pertaining to the above regulatory commitment(s) are best provided by the licensee's administrative processes, including its commitment management program (see Regulatory Issue Summary 2000-017, “Managing Regulatory Commitments Made by Power Reactor Licensees to the NRC Staff”). The above regulatory commitments do not warrant the creation of regulatory requirements (items requiring prior NRC approval of subsequent changes).

The staff evaluated the licensee's proposed change against the applicable regulatory requirements listed in section 2. The staff also compared the proposed change to the change made to STS by TSTF-511. The staff considered the licensee's commitment to implement 10 CFR Part 26, Subpart I concurrently with the deletion of TS work hour control requirements in its evaluation of the proposed change. Given the licensee's commitment, there is reasonable assurance that the licensee will comply with the regulations for work hour controls, either through TS requirements or through the requirements of 10 CFR part 26, Subpart I, at all times at [facility name]. Therefore, the licensee will continue to prevent worker fatigue from adversely affecting public health and safety and the common defense and security. Therefore, the staff finds the proposed change acceptable.

4.0 STATE CONSULTATION

In accordance with the Commission's regulations, the [Name of State] State official was notified of the proposed issuance of the amendment. The State official had [no] comments. [If comments were provided, they should be addressed here].

5.0 ENVIRONMENTAL CONSIDERATION

The amendment changes recordkeeping, reporting, or administrative procedures. Accordingly, the amendment meets the eligibility criteria for categorical exclusion set forth in 10 CFR 51.22(c)(10). Pursuant to 10 CFR 51.22(b) no environmental impact statement or environmental assessment need be prepared in connection with the issuance of the amendment.

6.0 CONCLUSION

The Commission has concluded, based on the considerations discussed above, that: (1) There is reasonable assurance that the health and safety of the public will not be endangered by operation in the proposed manner, (2) such activities will be conducted in compliance with the Commission's regulations, and (3) the issuance of the amendment will not be inimical to the common defense and security or to the health and safety of the public.

7.0 REFERENCES

1. [Licensee] Licensee Amendment Request to adopt TSTF-511, [DATE]

2. Federal Register Notice, Notice of Availability published on [DATE] ([ ] FR [ ]).

3. TSTF-511 Revision 0, “ Eliminate Working Hour Restrictions from TS 5.2.2 to Support Compliance with 10 CFR Part 26.”

Principal Contributors: [NRC Technical Reviewer]

MODEL NO SIGNIFICANT HAZARDS DETERMINATION

Description of Amendment Request: The proposed amendment would delete [paragraph d of TS 5.2.2].

Basis for No Significant Hazards Determination: As required by 10 CFR 50.91(a), an analysis of the issue of no significant hazards consideration is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR Part 26. Removal of the Technical Specification requirements will be performed concurrently with the implementation of the 10 CFR Part 26, Subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR Part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR Part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR Part 26 are adequate to ensure that worker fatigue is managed.

Therefore, the proposed change does not involve a significant reduction in a margin of safety.

Based on the above, the NRC concludes that the proposed change presents no significant hazards consideration under the standards set forth in 10 CFR 50.92(c), and, accordingly, a finding of “no significant hazards consideration” is justified.

[FR Doc. E8-30939 Filed 12-29-08; 8:45 am]

BILLING CODE 7590-01-P